DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 12, 2010.

Interested persons are invited to submit written comments regarding the subject matter of the investigations to the Director, Division of Trade Adjustment Assistance, at the address shown below, not later than February 12, 2010.

The petitions filed in this case are available for inspection at the Division of Trade Adjustment Assistance, Employment and Training Administration, U.S. Department of Labor, Room N-5428, 200 Constitution Avenue, NW., Washington, DC 20210.

Signed at Washington, DC, this 22nd day of January 2010.
Elliott Kushner,
Certifying Officer, Division of Trade Adjustment Assistance.

Appendix—TAA Petitions Instituted Between 12/7/09 and 12/11/09
TA-W | Subject firm (petitioners) | Location | Date of institution | Date of petition
73028 | TRW Automotive (Wkrs) | Galesville, WI | 12/07/09 | 10/11/09
73029 | Faurecia Exhaust Systems, Inc. (Comp) | Troy, OH | 12/07/09 | 12/07/09
73030 | Apex Systems (s) | Denver, CO | 12/07/09 | 12/03/09
73031 | Bruckner Supply Company, Inc. (Wkrs) | Port Washington, NY | 12/07/09 | 11/25/09
73032 | JM Producs, Inc. (State) | Little Rock, AR | 12/07/09 | 12/03/09
73033 | Fujifilm (State) | Valhalla, NY | 12/07/09 | 11/27/09
73034 | Alfs Manufacturing Company (State) | Sioux City, IA | 12/07/09 | 12/03/09
73035 | Brown Corporation of America (Wkrs) | Ionia, MI | 12/07/09 | 11/15/09
73036 | Assurant Specialty Property (State) | Orange, CA | 12/07/09 | 12/04/09
73037 | Top Fashion 947, Inc. (Wkrs) | Brooklyn, NY | 12/07/09 | 12/05/09
73038 | Vaquero Services, Inc. (Wkrs) | Godley, TX | 12/08/09 | 11/25/09
73039 | Oce North America (Wkrs) | Trumbull, CT | 12/08/09 | 11/26/09
73040 | Thyssenkrupp Presta Steering Group (State) | Ladson, SC | 12/08/09 | 12/01/09
73041 | Pilkington, North America (USW) | Lathrop, CA | 12/08/09 | 12/02/09
73042 | American Express (Wkrs) | Salt Lake City, UT | 12/08/09 | 12/02/09
73043 | I-Level Weyerhaeuser Trucking Operation (State) | Albany, OR | 12/08/09 | 12/04/09
73044 | Avaya (Wkrs) | Coppell, TX | 12/08/09 | 12/07/09
73045 | Techline USA (Wkrs) | Waunakee, WI | 12/08/09 | 09/01/24
73046 | Quality Logic, Inc. (Wkrs) | Boise, ID | 12/08/09 | 12/03/09
73047 | Keewatin Taconite Plant, U.S. Steel Corporation (State) | Keewatin, MN | 12/08/09 | 12/07/09
73048 | Mohawk Flush Door (UBC) | South Bend, IN | 12/08/09 | 12/07/09
73049 | Vertafore, Inc. (Rep) | Bothell, WA | 12/08/09 | 12/02/09
73050 | United Southern (Wkrs) | Forest City, NC | 12/09/09 | 12/08/09
73051 | Maco, Inc. (Comp) | Shelby, NC | 12/09/09 | 11/30/09
73052 | Fabric Processing Center (FPC) (Comp) | Florence, SC | 12/09/09 | 12/08/09
73053 | Homes Servicing (Wkrs) | Boone, NC | 12/09/09 | 12/08/09
73054 | Spririt AeroSystems, Inc. (SPEEA) | Wichita, KS | 12/09/09 | 12/03/09
73055 | Nuart, Inc. (Comp) | Bedford Park, IL | 12/09/09 | 12/08/09
73056 | Curtiss-Wright (Comp) | Long Beach, CA | 12/09/09 | 12/07/09
73057 | Lamjen, Inc. (Wkrs) | Erie, PA | 12/09/09 | 12/07/09
73058 | Honeywell International, Inc. (Comp) | Spring Valley, IL | 12/09/09 | 11/18/09
73059 | Honeywell International, Inc. (Comp) | Pawtucket, RI | 12/09/09 | 11/12/09
73060 | Harly-Davidson Motor Company (Comp) | York, PA | 12/09/09 | 12/07/09
73061 | Honeywell International, Inc. (Comp) | Springfield, IL | 12/09/09 | 11/18/09
73062 | Maggy London (Wkrs) | New York, NY | 12/09/09 | 09/14/09
73063 | Bank of America (Wkrs) | Concord, CA | 12/10/09 | 08/03/09
73064 | Hoerbiger Drivetech USA, Inc. (Comp) | Auburn, AL | 12/10/09 | 12/10/09
73065 | Domtar Paper Company (Comp) | Plymouth, NC | 12/10/09 | 12/03/09
73066 | Nortel (Wkrs) | Research Triangle Park, NC | 12/10/09 | 12/09/09
73067 | Slash Support (Comp) | South Jordan, UT | 12/10/09 | 10/28/09
73068 | Grede Foundries. Inc., Vassar Foundry (Wkrs) | Vassar, MI | 12/10/09 | 12/08/09
73069 | Allen Edmonds (Wkrs) | Lewiston, ME | 12/10/09 | 12/08/09
73070 | Oakley Industries (Union) | Belvidere, IL | 12/10/09 | 12/09/09
73071 | Arvin Meritor (Union) | Belvidere, IL | 12/10/09 | 12/09/09
73072 | Android Industries (Union) | Belvidere, IL | 12/10/09 | 12/09/09
73073 | Ventra Belvidere, LLC (Union) | Belvidere, IL | 12/10/09 | 12/09/09
73074 | Johnson Controles (Union) | Sycamore, IL | 12/10/09 | 12/09/09
73075 | ABB, Inc. (Wkrs) | Auburn Hills, MI | 12/10/09 | 12/04/09
73076 | TRI-DIM Filter Corp. (Union) | Belvidere, IL | 12/10/09 | 12/09/09
73077 | Grupo Antolin (Union) | Belvidere, IL | 12/10/09 | 12/09/09
73078 | HSBC (Wkrs) | Elmhurst, IL | 12/11/09 | 11/23/09
73079 | Leviton Manufacturing Company (Wkrs) | West Jefferson, NC | 12/11/09 | 12/10/09
73080 | ATK Space Systems (Wkrs) | Corinne, UT | 12/11/09 | 12/10/09
73081 | Paramount Pictures Corporation (Wkrs) | Hollywood, CA | 12/11/09 | 11/30/09

[FR Doc. 2010-2099 Filed 2-1-10; 8:45 am]

BILLING CODE 4510-FN-P